DEPARTMENT OF TRANSPORTATION

Federal Aviation Administration

14 CFR Part 39

[Docket No. 2000-CE-12-AD; Amendment 39-11924; AD 2000-20-13]

RIN 2120-AA64

Airworthiness Directives; British Aerospace HP137 Mk1, Jetstream Series 200, and Jetstream Models 3101 and 3201 Airplanes

AGENCY: Federal Aviation Administration, DOT.

ACTION: Final rule.

SUMMARY: This amendment adopts a new airworthiness directive (AD) that applies to certain British Aerospace HP137 Mk1, Jetstream series 200, and Jetstream Models 3101 and 3201 airplanes. This AD requires you to inspect the rudder quadrant support structure for cracks and correct D-washer installation; and also requires you to replace any cracked component and replace any incorrectly installed D-washers. This AD is the result of mandatory continuing airworthiness information (MCAI) issued by the airworthiness authority for the United Kingdom. The actions specified by this AD are intended to detect, correct, and prevent further cracking in the rudder quadrant structure caused by incorrectly installed D-washers. Cracks in this structure could result in loss of rudder control with consequent airplane control problems.

DATES: This AD becomes effective on November 27, 2000.

The Director of the Federal Register approved the incorporation by reference of certain publications listed in the regulations as of November 27, 2000.

ADDRESSES: You may get the service information referenced in this AD from British Aerospace Regional Aircraft, Prestwick International Airport, Ayrshire, KA9 2RW, Scotland; telephone: (01292) 479888; facsimile: (01292) 479703. You may examine this information at the Federal Aviation Administration (FAA), Central Region, Office of the Regional Counsel, Attention: Rules Docket No. 2000-CE-12-AD, 901 Locust, Room 506, Kansas City, Missouri 64106; or at the Office of the Federal Register, 800 North Capitol Street, NW, suite 700, Washington, DC 20001.

FOR FURTHER INFORMATION CONTACT: Mr. S.M. Nagarajan, Aerospace Engineer, FAA, Small Airplane Directorate, 901 Locust, Room 301, Kansas City, Missouri 64106; telephone: (816) 329-4145; facsimile: (816) 329-4090.

SUPPLEMENTARY INFORMATION:

Discussion

What events have caused this AD? The Civil Aviation Authority (CAA), which is the airworthiness authority for the United Kingdom, recently notified the FAA that an unsafe condition may exist on certain British Aerospace HP137 Mk1, Jetstream series 200, and Jetstream Models 3101 and 3201 airplanes. The CAA reports two incidents of cracks in the upper edge member radii and bottom diaphragm radii of the rudder quadrant support structure.

Investigation of these incidents revealed that the D-washers in the rudder quadrant support structure were installed incorrectly. These D-washers, when installed correctly, are designed to reinforce the bend radii of the affected structure.

What are the consequences if the condition is not corrected? Cracks in the rudder quadrant support structure, if not detected and corrected, could result in loss of rudder control with consequent airplane control problems.

Has FAA taken any action to this point? We issued a proposal to amend part 39 of the Federal Aviation Regulations (14 CFR part 39) to include an AD that would apply to certain British Aerospace HP137 Mk1, Jetstream series 200, and Jetstream Models 3101 and 3201 airplanes. This proposal was published in the Federal Register as a notice of proposed rulemaking (NPRM) on August 10, 2000, (65 FR 48933). The NPRM proposed to require you to inspect the rudder quadrant support structure for cracks and correct D-washer installation; and would require you to replace any cracked component and replace any incorrectly installed D-washers.

Was the public invited to comment? Interested persons were afforded an opportunity to participate in the making of this amendment. No comments were received on the proposed rule or the FAA's determination of the cost to the public.

The FAA's Determination

What is FAA's Final Determination on this Issue? After careful review of all available information related to the subject presented above, we have determined that air safety and the public interest require the adoption of the rule as proposed except for minor editorial corrections. We determined that these minor corrections:

• Will not change the meaning of the AD; and

• Will not add any additional burden upon the public than was already proposed.

Compliance Time

What is the compliance time of this AD? The compliance time of this AD will be “within 90 calendar days after the effective date of this AD.”

Why is the compliance in calendar time instead of hours time-in-service (TIS)? The cracks in the rudder quadrant support structure occur as a direct result of airplane operation if the D-washers are incorrectly installed. Because the D-washers could have been incorrectly installed in the field or at the factory, the problem has the same chance of occurring on an airplane with 50 hours TIS as one with 5,000 hours TIS. Therefore, we believe that 90 calendar days will:

• Assure that the unsafe condition does not go undetected for a long period of time on the affected airplanes; and

• Will not inadvertently ground any of the affected airplanes.

Cost Impact

How many airplanes does this AD impact? We estimate that this AD affects 264 airplanes in the U.S. registry.

What is the cost impact of this AD on owners/operators of the affected airplanes? We estimate that it will take approximately 1 workhour per airplane to accomplish the inspection of the rudder quadrant support structure and the D-washers, at an average labor rate of $60 an hour. Based on the figures presented above, the total cost impact of the inspection on U.S. operators is estimated to be $15,840, or $60 per airplane.

Costs for any necessary replacements are as follows:

Action | Number of workhours | Parts cost | Total cost per airplane
Right upper edge member replacement | 8 workhours at $60 per hour | $514 | $994
Lower diaphragm replacement | 8 workhours at $60 per hour | 760 | 1,240
D-washer replacement | 4 workhours at $60 per hour | 250 | 490

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by Reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends Section 39.13 by adding a new AD to read as follows:

2000-20-13 British Aerospace: Amendment 39-11924; Docket No. 2000-CE-12-AD.

(a) What airplanes are affected by this AD? This AD affects Models HP137 Mk1, Jetstream Series 200 airplanes, and Jetstream Models 3101 and 3201 airplanes, all serial numbers excluding 936 and 940, certificated in any category.

(b) Who must comply with this AD? Anyone who wishes to operate any of the above airplanes on the U.S. Register must comply with this AD.

(c) What problem does this AD address? The actions specified by this AD are intended to detect, correct, and prevent further cracking in the rudder quadrant structure caused by incorrectly installed D-washers. Cracks in this structure could result in loss of rudder control with consequent airplane control problems.

(d) What actions must I accomplish to address this problem? To address this problem, you must accomplish the following:

Actions | Compliance times | Procedures
(1) Inspect the upper edge member radii and bottom diaphragm radii adjacent to the rudder artificial feel assembly attachments at the rudder quadrant support for cracks and inspect the D-washers to assure correct installation | Within 90 calendar days after November 27, 2000 (the effective date of this AD) | Accomplish in accordance with the “ACCOMPLISHMENT INSTRUCTIONS: Part 1—Inspection” section of British Aerospace Mandatory Alert Service Bulletin 53-JA-990842, Revision 1, dated February 21, 2000.
(2) If cracks are found in the area of the upper edge member radii on the rudder quadrant support structure, replace this component by incorporating material Kit No. ‘53-JA-990842PT2’ | Before further flight after the inspection where the cracked part was detected | Accomplish in accordance with the “ACCOMPLISHMENT INSTRUCTIONS: Part 2—Replacement of the right upper edge member if cracks are found at Part 1” section of British Aerospace Mandatory Alert Service Bulletin 53-JA-990842, Revision 1, dated February 21, 2000.
(3) If cracks are found in the area of the bottom diaphragm on the rudder quadrant support structure, replace this component by incorporating material Kit No. ‘53-JA-990842PT3’ | Before further flight after the inspection where the cracked part was detected | Accomplish in accordance with the “ACCOMPLISHMENT INSTRUCTIONS: Part 3—Replacement of the bottom diaphragm of the rudder quadrant support structure” section of British Aerospace Mandatory Alert Service Bulletin 53-JA-990842, Revision 1, dated February 21, 2000.
(4) Remove any incorrectly installed D-washer and replace with a new D-washer. This replacement is accomplished by incorporating material Kit No. ‘53-JA-990842PT4’ | Before further flight after the inspection where the incorrect installation was detected | Accomplish in accordance with the “ACCOMPLISHMENT INSTRUCTIONS: Part 4—Removal and replacement of D-washers” section of British Aerospace Mandatory Alert Service bulletin 53-JA-990842, Revision 1, dated February 21, 2000.

(e) Can I comply with this AD in any other way? You may use an alternative method of compliance or adjust the compliance time if:

(1) Your alternative method of compliance provides an equivalent level of safety; and

(2) The Manager, Small Airplane Directorate approves your alternative. Submit your request through an FAA Principal Maintenance Inspector, who may add comments and then send it to the Manager, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact S.M. Nagarajan, Aerospace Engineer, FAA, Small Airplane Directorate, 901 Locust, Room 301, Kansas City, Missouri 64106; telephone: (816) 329-4145; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with British Aerospace Mandatory Alert Service Bulletin 53-JA-990842, Revision 1, dated February 21, 2000. The Director of the Federal Register approved this incorporation by reference under 5 U.S.C. 552(a) and 1 CFR part 51. You can get copies from British Aerospace Regional Aircraft, Prestwick International Airport, Ayrshire, KA9 2RW, Scotland. You can look at copies at the FAA, Central Region, Office of the Regional Counsel, 901 Locust, Room 506, Kansas City, Missouri, or at the Office of the Federal Register, 800 North Capitol Street, NW, suite 700, Washington, DC 20001.

(i) When does this amendment become effective? This amendment becomes effective on November 27, 2000.

Note 2: The subject of this AD is addressed in British AD Number 006-12-99, not dated.

Issued in Kansas City, Missouri, on September 28, 2000.
Michael Gallagher,
Manager, Small Airplane Directorate, Aircraft Certification Service.

[FR Doc. 00-25554 Filed 10-12-00; 8:45 am]

BILLING CODE 4910-13-P